DEPARTMENT OF COMMERCE

International Trade Administration

[C-570-187, C-533-937]

Overhead Door Counterbalance Torsion Springs From the People's Republic of China and India: Initiation of Countervailing Duty Investigations

AGENCY: Enforcement and Compliance, International Trade Administration, Department of Commerce.

DATES: Applicable November 18, 2024.

FOR FURTHER INFORMATION CONTACT: William Horn (the People's Republic of China (China)) and Krisha Hill (India), AD/CVD Operations, Enforcement and Compliance, International Trade Administration, U.S. Department of Commerce, 1401 Constitution Avenue NW, Washington, DC 20230; telephone: (202) 482-4868 and (202) 482-4037, respectively.

SUPPLEMENTARY INFORMATION:

The Petitions

On October 29, 2024, the U.S. Department of Commerce (Commerce) received countervailing duty (CVD) petitions concerning imports of overhead door counterbalance torsion springs (overhead door springs) from China and India filed in proper form on behalf of IDC Group, Inc., Iowa Spring Manufacturing, Inc., and Service Spring Corp. (collectively, the petitioners), U.S. producers of overhead door springs.¹ The CVD Petitions were accompanied by antidumping duty (AD) petitions concerning imports of overhead door springs from China and India.²

¹ See Petitioners' Letter, “Petitions for the Imposition of Antidumping and Countervailing Duties,” dated October 29, 2024 (Petitions).

² Id.

Between October 30 and November 15, 2024, Commerce requested supplemental information pertaining to certain aspects of the Petitions.³ Between November 4 and 15, 2024, the petitioners filed timely responses to these requests for additional information.⁴

³ See Commerce's Letters, “Supplemental Questions,” dated November 1, 2024 (General Issues Questionnaire), see also Country-Specific CVD Supplemental Questionnaires: China Supplemental and India Supplemental, dated October 30, 2024, and November 4, 2024; and Memorandum, “Phone Call,” dated November 15, 2024 (November 15, 2024, Memorandum).

⁴ See Petitioners' Letters, “Petitioners' Supplement to Volume I of the Petition for the Imposition of Antidumping and Countervailing duties on Imports from China and India,” dated November 7, 2024 (General Issues Supplement); see also Country-Specific CVD Supplemental Responses: China CVD Supplement and India CVD Supplement, dated November 4, 2024, and November 7, 2024; and Petitioners' Letter, “Petitioners' Amendment to the Scope of the Petition for the Imposition of Antidumping and Countervailing Duties on Imports from China and India,” dated November 15, 2024 (Scope Supplement).

In accordance with section 702(b)(1) of the Tariff Act of 1930, as amended (the Act), the petitioners allege that the Government of China (GOC) and the Government of India (GOI) (collectively, Governments) are providing countervailable subsidies, within the meaning of sections 701 and 771(5) of the Act, to producers of overhead door springs from China and India and that such imports are materially injuring, or threatening material injury to, the domestic industry producing overhead door springs in the United States. Consistent with section 702(b)(1) of the Act and 19 CFR 351.202(b), for those alleged programs on which we are initiating CVD investigations, the Petitions were accompanied by information reasonably available to the petitioners supporting their allegations.

Commerce finds that the petitioners filed the Petitions on behalf of the domestic industry because the petitioners are interested parties, as defined in section 771(9)(C) of the Act. Commerce also finds that the petitioners demonstrated sufficient industry support with respect to the initiation of the requested CVD investigations.⁵

⁵ See section on “Determination of Industry Support for the Petitions,” infra.

Periods of Investigation

Because the Petitions were filed on October 29, 2024, the periods of investigation for the China and India CVD investigations are January 1, 2023, through December 31, 2023.⁶

⁶ See 19 CFR 351.204(b)(2).

Scope of the Investigations

The products covered by these investigations are overhead door springs from China and India. For a full description of the scope of these investigations, see the appendix to this notice.

Comments on the Scope of the Investigations

On November 1 and 15, 2024, Commerce requested information and clarification from the petitioner regarding the proposed scope to ensure that the scope language in the Petitions is an accurate reflection of the products for which the domestic industry is seeking relief.⁷ On November 7 and 15, 2024, the petitioners provided clarifications and revised the scope.⁸ The description of merchandise covered by these investigations, as described in the appendix to this notice, reflects these clarifications.

⁷ See General Issues Questionnaire; see also November 15, 2024, Memorandum.

⁸ See General Issues Supplement at 3-18; see also Scope Supplement at 2 and Attachment.

As discussed in the Preamble to Commerce's regulations, we are setting aside a period for interested parties to raise issues regarding product coverage (i.e., scope).⁹ Commerce will consider all comments received from interested parties and, if necessary, will consult with interested parties prior to the issuance of the preliminary determinations. If scope comments include factual information, all such factual information should be limited to public information.¹⁰ To facilitate preparation of its questionnaires, Commerce requests that scope comments be submitted by 5:00 p.m. Eastern Time (ET) on December 9, 2024, which is the next business day after 20 calendar days from the signature date of this notice.¹¹ Any rebuttal comments, which may include factual information, must be filed by 5:00 p.m. ET on December 19, 2024, which is 10 calendar days from the initial comment deadline.

⁹ See Antidumping Duties; Countervailing Duties; Final Rule, 62 FR 27296, 27323 (May 19, 1997) (Preamble).

¹⁰ See 19 CFR 351.102(b)(21) (defining “factual information”).

¹¹ See 19 CFR 351.303(b)(1). The deadline for scope comments falls on December 8, 2024, which is a Sunday. In accordance with 19 CFR 351.303(b)(1), Commerce will accept comments filed by 5:00 p.m. ET on December 9, 2024 (“For both electronically filed and manually filed documents, if the applicable due date falls on a non-business day, the Secretary will accept documents that are filed on the next business day.”).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹³ The GOC and the GOI did not request consultations.

¹³ See Commerce's Letters, “Invitation for Consultation to Discuss the Countervailing Duty Petition,” dated October 31, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that overhead door springs, as defined in the scope, constitute a single domestic like product, and we have analyzed industry support in terms of that domestic like product.¹⁷

¹⁶ For a discussion of the domestic like product analysis as applied to these cases and information regarding industry support, see Checklists, “Countervailing Duty Investigation Initiation Checklists: Overhead Door Counterbalance Torsion Springs from the People's Republic of China and India,” dated concurrently with, and hereby adopted by, this notice (Country-Specific CVD Initiation Checklists), at Attachment II, Analysis of Industry Support for the Antidumping and Countervailing Duty Petitions Covering Overhead Door Counterbalance Torsion Springs from the People's Republic of China and India (Attachment II). These checklists are on file electronically via ACCESS.

¹⁷ See Attachment II of the Country-Specific CVD Initiation Checklists.

In determining whether the petitioners have standing under section 702(c)(4)(A) of the Act, we considered the industry support data contained in the Petitions with reference to the domestic like product as defined in the “Scope of the Investigations,” in the appendix to this notice. To establish industry support, the petitioners provided their own production of the domestic like product in 2023 and compared this to the estimated total 2023 production of the domestic like product for the entire industry.¹⁸ We relied on data provided by the petitioners for purposes of measuring industry support.¹⁹

¹⁸ Id.

¹⁹ For further discussion, see Attachment II of the Country-Specific CVD Initiation Checklists.

Our review of the data provided in the Petitions, the General Issues Supplement, and other information readily available to Commerce indicates that the petitioners have established industry support for the Petitions.²⁰ First, the Petitions established support from domestic producers (or workers) accounting for more than 50 percent of the total production of the domestic like product and, as such, Commerce is not required to take further action in order to evaluate industry support (e.g., polling).²¹ Second, the domestic producers (or workers) have met the statutory criteria for industry support under section 702(c)(4)(A)(i) of the Act because the domestic producers (or workers) who support the Petitions account for at least 25 percent of the total production of the domestic like product.²² Finally, the domestic producers (or workers) have met the statutory criteria for industry support under section 702(c)(4)(A)(ii) of the Act because the domestic producers (or workers) who support the Petitions account for more than 50 percent of the production of the domestic like product produced by that portion of the industry expressing support for, or opposition to, the Petitions.²³ Accordingly, Commerce determines that the Petitions were filed on behalf of the domestic industry within the meaning of section 702(b)(1) of the Act.²⁴

²⁰ For further discussion, see Attachment II of the Country-Specific CVD Initiation Checklists.

²¹ Id.; see also section 702(c)(4)(D) of the Act.

²² See Attachment II of the Country-Specific CVD Initiation Checklists.

²³ Id.

²⁴ Id.

Injury Test

Because China and India are “Subsidies Agreement Countries” within the meaning of section 701(b) of the Act, section 701(a)(2) of the Act applies to these investigations. Accordingly, the ITC must determine whether imports of the subject merchandise from China and/or India materially injure, or threaten material injury to, a U.S. industry.

Allegations and Evidence of Material Injury and Causation

The petitioners allege that imports of the subject merchandise are benefiting from countervailable subsidies and that such imports are causing, or threaten to cause, material injury to the U.S. industry producing the domestic like product. In addition, the petitioners allege that subject imports from China and India exceed the negligibility threshold provided for under section 771(24)(A) of the Act.²⁵

²⁵ For further information regarding negligibility and the injury allegation, see Country-Specific CVD Initiation Checklists at Attachment III, Analysis of Allegations and Evidence of Material Injury and Causation for the Antidumping and Countervailing Duty Petitions Covering Overhead Door Counterbalance Torsion Springs from the People's Republic of China and India (Attachment III).

The petitioners contend that the industry's injured condition is illustrated by the significant and increasing volume of subject imports; reduced market share; underselling and price depression and/or suppression; lost sales and revenues; and decline in the domestic industry's production, shipments, and financial performance.²⁶ We assessed the allegations and supporting evidence regarding material injury, threat of material injury, causation, cumulation, as well as negligibility, and we have determined that these allegations are properly supported by adequate evidence and meet the statutory requirements for initiation.²⁷

²⁶ See Attachment III of the Country-Specific CVD Initiation Checklists.

²⁷ Id.

Initiation of CVD Investigations

Based upon the examination of the Petitions and supplemental responses, we find that they meet the requirements of section 702 of the Act. Therefore, we are initiating CVD investigations to determine whether imports of overhead door springs from China and India benefit from countervailable subsidies conferred by the GOC and GOI, respectively. In accordance with section 703(b)(1) of the Act and 19 CFR 351.205(b)(1), unless postponed, we will make our preliminary determinations no later than 65 days after the date of these initiations.

China

Based on our review of the Petitions, we find that there is sufficient information to initiate a CVD investigation on 16 of the 16 programs alleged by the petitioners. For a full discussion of the basis for our decision to initiate on each program, see the China CVD Initiation Checklist. A public version of the initiation checklist for this investigation is available on ACCESS.

India

Based on our review of the Petitions, we find that there is sufficient information to initiate a CVD investigation on 24 of the 31 programs alleged by the petitioners. For a full discussion of the basis for our decision to initiate on each program, see the India CVD Initiation Checklist. A public version of the initiation checklist for this investigation is available on ACCESS.

Respondent Selection

China and India

In the Petitions, the petitioners identified 80 companies in China and eight companies in India as producers/exporters of overhead door springs.²⁸ Commerce intends to follow its standard practice in CVD investigations and calculate company-specific subsidy rates in these investigations. In the event that Commerce determines that the number of companies is large and it cannot individually examine each company based on Commerce's resources, Commerce normally selects mandatory respondents in CVD investigations using U.S. Customs and Border Protection (CBP) entry data for U.S. imports under the appropriate Harmonized Tariff Schedule of the United States (HTSUS) subheading(s) listed in the “Scope of the Investigations” in the appendix. However, for these investigations, the main HTSUS subheadings under which the subject merchandise would enter (7320.20.5020, 7320.20.5045, and 7320.20.5060) are not limited to subject merchandise and therefore may also cover non-subject merchandise. Therefore, we cannot rely on CBP entry data in selecting respondents. Notwithstanding the decision to rely on quantity and value (Q&V) questionnaires for respondent selection, due to the number of Chinese producers and/or exporters identified in the Petitions, Commerce has determined to limit the number of Q&V questionnaires that it will issue to Chinese producers and/or exporters based on CBP data for overhead door springs from China during the POI under the appropriate HTSUS subheadings listed in the “Scope of the Investigations,” in the appendix.²⁹ Accordingly, for China, Commerce will issue Q&V questionnaires to the largest producers and/or exporters that are identified in the CBP entry data for which there is complete address information on the record. For India, because there are eight companies identified, Commerce will issue Q&V questionnaires to each producer and/or exporter in India for which there is complete address information on the record.

²⁸ See Petitions at Volume I (page 30 and Exhibit I-46); see also General Issues Supplement at 1 and Exhibit I-46 (Revised).

²⁹ See Memorandum, “Release of U.S. Customs and Border Protection Entry Data,” dated November 15, 2024.

Commerce will also post the Q&V questionnaire along with filing instructions on Commerce's website at https://www.trade.gov/ec-adcvd-case-announcements. Producers/exporters of overhead door springs from China and India that do not receive Q&V questionnaires may still submit a response to the Q&V questionnaire and can obtain a copy of the Q&V questionnaire from Commerce's website. Responses to the Q&V questionnaire must be submitted by the relevant Chinese and Indian producers/exporters no later than 5:00 p.m. ET on December 2, 2024, which is two weeks from the signature date of this notice.³⁰ All Q&V questionnaire responses must be filed electronically via ACCESS. An electronically filed document must be received successfully, in its entirety, by ACCESS no later than 5:00 p.m. ET on the deadline noted above.

³⁰ See 19 CFR 351.303(b)(1).

Interested parties must submit applications for disclosure under administrative protective order (APO) in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOC and GOI via ACCESS. To the extent practicable, we will attempt to provide a copy of the public version of the Petitions to each exporter named in the Petitions, as provided under 19 CFR 351.203(c)(2).

ITC Notification

Commerce will notify the ITC of its initiation, as required by section 702(d) of the Act.

Preliminary Determinations by the ITC

The ITC will preliminarily determine, within 45 days after the date on which the Petitions were filed, whether there is a reasonable indication that imports of overhead door springs from China and/or India are materially injuring, or threatening material injury to, a U.S. industry.³¹ A negative ITC determination for any country will result in the investigation being terminated with respect to that country.³² Otherwise, these CVD investigations will proceed according to statutory and regulatory time limits.

³¹ See section 703(a)(1) of the Act.

³² Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³³ and, if the information is submitted to rebut, clarify, or correct factual information already on the record, to provide an explanation identifying the information already on the record that the factual information seeks to rebut, clarify, or correct.³⁴ Time limits for the submission of factual information are addressed in 19 CFR 351.301, which provides specific time limits based on the type of factual information being submitted. Interested parties should review the regulations prior to submitting factual information in these investigations.

³³ See 19 CFR 351.301(b).

³⁴ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁵ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.³⁶

³⁵ See 19 CFR 351.302.

³⁶ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.³⁷ Parties must use the certification formats provided in 19 CFR 351.303(g).³⁸ Commerce intends to reject factual submissions if the submitting party does not comply with the applicable certification requirements.

³⁷ See section 782(b) of the Act.

³⁸ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).³⁹

³⁹ See Administrative Protective Order, Service, and Other Procedures in Antidumping and Countervailing Duty Proceedings, 88 FR 67069 (September 29, 2023).

This notice is issued and published pursuant to sections 702 and 777(i) of the Act, and 19 CFR 351.203(c).

Dated: November 18, 2024.
Abdelali Elouaradia,
Deputy Assistant Secretary for Enforcement and Compliance.

Appendix

Scope of the Investigations

The merchandise covered by these investigations is helically-wound, overhead door counterbalance torsion steel springs (overhead door counterbalance torsion springs) and any cones, plugs or other similar fittings for mounting and creating torque in the spring (herein collectively referred to as cones) attached to or entered with and invoiced with the subject overhead door counterbalance torsion springs. Overhead door counterbalance torsion springs are helical steel springs with tightly wound coils that store and release mechanical energy by winding and unwinding along the spring's axis by an angle, using torque to create a lifting force in the counterbalance assembly typically used to raise and lower overhead doors, including garage doors, industrial rolling doors, warehouse doors, trailer doors, and other overhead doors, gates, grates, or similar devices. The merchandise covered by these investigations covers all overhead door counterbalance torsion springs with a coil inside diameter of 15.8 millimeters (mm) or more but not exceeding 304.8 mm (measured across the diameter from inner edge to inner edge); a wire diameter of 2.5 mm to 20.4 mm; a length of 127 mm or more; and regardless of the following characteristics:

• wire type (including, but not limited to, oil-tempered wire, hard-drawn wire, music wire, galvanized or other coated wire);

• wire cross-sectional shape (e.g., round, square, or other shapes);

• coating (e.g., uncoated, oil- or water-based coatings, lubricant coatings, zinc, aluminum, zinc-aluminum, paint or plastic coating, etc.);

• winding orientation (left-hand or right-hand wind direction);

• end type (including, but not limited to, looped, double looped, clipped, long length, mini warehouse, Barcol, Crawford, Kinnear, Wagner, rolling steel or barrel ends); and

• whether the overhead door counterbalance torsion springs are fitted with hardware, including but not limited to fasteners, clips, and cones (winding or stationary cones).

For purposes of the diameters referenced above, where the nominal and actual measurements vary, a product is within the scope if application of either the nominal or actual measurement would place it within the scope based on the definitions set forth above.

The steel torsion springs included in the scope of these investigations are produced from steel in which: (1) iron predominates, by weight, over each of the other contained elements; and (2) the carbon content is 2 percent or less, by weight.

Subject merchandise includes cones attached to or entered with and invoiced with the subject overhead door counterbalance torsion springs. Such cones, which are typically cast aluminum, aluminum alloy or steel (but may be made from other materials) are made to mount the subject springs to the overhead door counterbalance system and create and maintain torque in the spring. Cones or other similar fittings that are not attached to the subject springs or are not entered with and invoiced with the subject springs are not included within the scope unless entered as parts of kits as described below.

Subject merchandise also includes all subject overhead door counterbalance torsion springs and cones or other similar fittings for mounting and tensioning the spring entered as a part of overhead door kits, overhead door mounting or assembly kits, or as a part of a spring-operated motor assembly or as a part of a spring winder assembly kit for torsion springs. When counterbalance torsion springs and cones or other similar fittings for attaching and tensioning the torsion spring are entered as a part of such kits, only the counterbalance spring and cones or other similar fittings in the kit are within scope.

Subject merchandise also includes overhead door counterbalance torsion springs that have been further processed in a third country, including but not limited to cutting to length, attachment of hardware, cones or end-fittings, inclusion in garage door kits or garage door mounting or assembly kits, or any other processing that would not remove the merchandise from the scope of these investigations if performed in the country of manufacture of the in-scope overhead door counterbalance torsion springs.

All products that meet the written physical description are within the scope of these investigations unless specifically excluded. The following products are specifically excluded from the scope of these investigations:

• leaf springs (slender arc-shaped length of spring steel of a rectangular cross-section);

• disc springs (conical springs consisting of a convex disc with the outer edge working against the center of the disc);

• extension springs (close-wound round helical wire springs that store and release energy by resisting the external pulling forces applied to the spring's ends in the direction of its length);

• compression springs (helical coiled springs with open wound active coils (such open winding is also known as pitch) that are designed to compress under load or force); and

• spiral springs (torsion springs wound as concentric spirals such as a clock spring or mainspring).

The products subject to these investigations are currently classified under Harmonized Tariff Schedule of the United States (HTSUS) subheadings 7320.20.5020, 7320.20.5045 and 7320.20.5060. They may also be classified under HTSUS subheading 8412.90.9085 if entered as parts of spring-operated motors. They may also be classified in HTSUS subheading 8412.80.1000 (spring-operated motors) if entered as part of a spring counterweight assembly for an overhead door. They may also be classified in HTSUS subheading 7308.90.9590, a basket category that includes metal garage doors entered with mounting accessories or assemblies. Although the HTSUS subheadings are provided for convenience and customs purposes, the written description of the scope of these investigations is dispositive.

[FR Doc. 2024-27494 Filed 11-22-24; 8:45 am]

BILLING CODE 3510-DS-P